ENVIRONMENTAL PROTECTION AGENCY

40 CFR Part 52

[Region 7 Tracking No. MO 101-1101; FRL-6701-4]

Approval and Promulgation of Implementation Plans; State of Missouri

AGENCY: Environmental Protection Agency (EPA).

ACTION: Final rule.

SUMMARY: EPA is taking final action to approve a set of volatile organic compound (VOC) rules for the St. Louis, Missouri, nonattainment area. These rules are intended to satisfy the reasonably available control technology (RACT) requirements of section 182(b)(2) of the Clean Air Act (Act) Amendments of 1990. The VOC reductions achieved by the implementation of these rules will be accounted for in the 15% Rate-of-Progress Plan (ROPP) and the attainment demonstration for the St. Louis nonattainment area as required in section 182(b)(1)(A) of the Act. EPA is addressing the reductions as part of the 15% ROPP and the attainment demonstration in separate rulemaking actions.

DATES: This rule is effective on June 19, 2000.

ADDRESSES: Copies of the state submittals are available at the following address for inspection during normal business hours: Environmental Protection Agency, Air Planning and Development Branch, 901 North 5th Street, Kansas City, Kansas 66101.

FOR FURTHER INFORMATION CONTACT: Kim Johnson at (913) 551-7975.

SUPPLEMENTARY INFORMATION: Throughout this document whenever “we, us, or our” is used, we mean EPA. This section provides additional information by addressing the following questions:

What is a SIP?

What is the Federal approval process for a SIP?

What does Federal approval of a state regulation mean to me?

What is being addressed in this action?

Have the requirements for approval of a SIP revision been met?

What action is EPA taking?

What Is a SIP?

Section 110 of the Clean Air Act (CAA) requires states to develop air pollution regulations and control strategies to ensure that state air quality meets the national ambient air quality standards established by EPA. These ambient standards are established under section 109 of the CAA, and they currently address six criteria pollutants. These pollutants are: carbon monoxide, nitrogen dioxide, ozone, lead, particulate matter, and sulfur dioxide.

Each state must submit these regulations and control strategies to EPA for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally approved SIP. Records of such SIP actions are maintained in the Code of Federal Regulations (CFR) at Title 40, Part 52, entitled “Approval and Promulgation of Implementation Plans.” The actual state regulations which are approved are not reproduced in their entirety in the CFR outright but are “incorporated by reference,” which means that we have approved a given state regulation with a specific effective date.

What Does Federal Approval of a State Regulation Mean to me?

Enforcement of the state regulation before and after it is incorporated into the Federally approved SIP is primarily a state responsibility. However, after the regulation is Federally approved, we are authorized to take enforcement action against violators. Citizens are also offered legal recourse to address violations as described in section 304 of the CAA.

What Is Being Addressed in This Document?

VOC emissions combine with nitrogen oxide emissions on hot, sunny days to form ground level ozone, commonly known as smog. The purpose of the following rules is to establish RACT requirements for major sources of VOC emissions to help reduce ozone concentrations in the St. Louis ozone nonattainment area. The St. Louis ozone nonattainment area includes Franklin, Jefferson, St. Charles, and St. Louis counties, and St. Louis City in Missouri.

We are taking final action to approve as an amendment to the Missouri SIP the following rules:

10 CSR 10-5.220 Control of Petroleum Liquid Storage, Loading, and Transfer

Missouri has updated its existing rule 10 CSR 10-5.220 to improve the clarity of the regulation and generally strengthen the SIP. This rule restricts VOC emissions from the handling of petroleum liquids in five specific areas. These areas include petroleum storage tanks with a capacity greater than 40,000 gallons, the loading of gasoline into delivery vessels, the transfer of gasoline from delivery vessels into storage containers, gasoline delivery vessels, and the fueling of motor vehicles from storage containers.

10 CSR 10-5.295 Control of Emissions From Aerospace Manufacture and Rework Facilities

This new rule requires all aerospace manufacture and rework facilities in the St. Louis nonattainment area, which emit greater than 25 tons per year, to use low VOC coatings and cleaning solvents.

10 CSR 10-5.500 Control of Emissions From Volatile Organic Liquid Storage

This rule limits the VOC emissions from installations storing large volumes of volatile organic liquids. The control requirements apply to all 40,000 gallon or larger volatile organic liquid storage containers storing liquid with a maximum true vapor pressure of one-half pound per square inch or greater.

10 CSR 10-5.520 Control of Volatile Organic Compound Emissions From Existing Major Sources

This new rule requires major facilities that are not regulated by current category-specific RACT regulations to conduct a RACT study and implement the RACT level controls defined by the study as approved by Missouri. Major facilities are defined as having the potential to emit 100 tons per year or more of VOCs.

10 CSR 10-5.530 Control of Volatile Organic Compound Emissions From Wood Furniture Manufacturing Operations

This rule limits the VOC emissions from wood furniture manufacturing operations that have the potential to emit equal to or greater than 25 tons per year of VOC emissions.

10 CSR 10-5.540 Control of Emissions From Batch Process Operations

This rule establishes RACT controls to limit the VOC emissions from batch process operations. The control requirements apply to batch operation sources that have the potential to emit equal to or greater than 100 tons per year of VOC emissions and that are identified by one of seven different four digit standard industrial classification codes under the chemical manufacturing category.

10 CSR 10-5.550 Control of Volatile Organic Compound Emissions From Reactor Processes and Distillation Operations Processes in the Synthetic Organic Chemical Manufacturing Industry

This new rule implements RACT control of VOC emissions from the synthetic organic chemical manufacturing industry. Specifically, this rule requires RACT for control of VOC emissions from any vent stream originating from a process unit in which a reactor process or distillation operation is located.

Summary

These new VOC RACT rules are consistent with Federal regulations and are consistent with the appropriate EPA control techniques guidelines or alternative control techniques documents. The rules contain enforceable emission limits, appropriate compliance methods, require recordkeeping to determine compliance, and meet all applicable enforceability requirements.

No comments were received in response to the public comment period regarding this rule action.

For more background information and a more detailed description of EPA's rationale for approval, the reader is referred to the proposal for this rulemaking published on February 17, 2000, at 65 FR 8094.

Have the Requirements for Approval of a SIP Revision Been Met?

The state submittal has met the public notice requirements for SIP submissions in accordance with 40 CFR 51.102. The submittal also satisfied the completeness criteria of 40 CFR part 51, Appendix V. In addition, as explained above and in more detail in the technical support document which is part of this document, the revision meets the substantive SIP requirements of the CAA, including section 110 and implementing regulations and Part D of Title I of the Act.

What Action Is EPA Taking?

We are taking final action to approve as an amendment to the Missouri SIP the following rules applicable to the St. Louis nonattainment area:

10 CSR 10-5.220 Control of Petroleum Liquid Storage, Loading, and Transfer

10 CSR 10-5.295 Control of Emissions From Aerospace Manufacture and Rework Facilities

10 CSR 10-5.500 Control of Emissions from Volatile Organic Liquid Storage

10 CSR 10-5.520 Control of Volatile Organic Compound Emissions From Existing Major Sources

10 CSR 10-5.530 Control of Volatile Organic Compound Emissions From Wood Furniture Manufacturing Operations

10 CSR 10-5.540 Control of Emissions from Batch Process Operations

10 CSR 10-5.550 Control of Volatile Organic Compound Emissions From Reactor Processes and Distillation Operations Processes in the Synthetic Organic Chemical Manufacturing Industry

These rules will reduce VOC emissions in the St. Louis area and meet the RACT requirements of section 182(b)(2) of the Act as amended in 1990.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves preexisting requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This rule also is not subject to Executive Order 13045 (62 FR 19885, April 23, 1997), because it is not economically significant.

In reviewing SIP submissions, our role is to approve state choices, provided that they meet the criteria of the CAA. In this context, in the absence of a prior existing requirement for the state to use voluntary consensus standards (VCS), we have no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the Executive Order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. We will submit a report containing this rule and other required information to the United States Senate, the United States House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by July 17, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Dated: May 2, 2000
Dennis Grams,
Regional Administrator, Region 7.

Chapter I, title 40 of the Code of Federal Regulations is amended as follows:

PART 52—[AMENDED]

1. The authority citation for part 52 continues to read as follows:

Authority: 42 U.S.C. 7401 et seq.

Subpart AA—Missouri

2. § 52.1320 is amended by:

a. In the table to paragraph (c), Chapter 5, revising the entry for “10-5.220”;

b. In the table to paragraph (c), Chapter 5, adding in numerical order entries “10-5.295,” “10-5.500,” “10-5.520,” “10-5.530,” “10-5.540,” and “10-5.550.”

The revision and additions read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.220 | Control of Petroleum Liquid Storage, Loading, and Transfer | August 30, 1999 | May 18, 2000
* * * * * * *
10-5.295 | Control of Emissions From Aerospace Manufacturing and Rework Facilities | February 29, 2000 | May 18, 2000
* * * * * * *
10-5.500 | Control of Emissions From Volatile Organic Liquid Storage | February 29, 2000 | May 18, 2000
10-5.520 | Control of Volatile Organic Compound Emissions From Existing Major Sources | February 29, 2000 | May 18, 2000
10-5.530 | Control of Volatile Organic Compound Emissions From Wood Furniture Manufacturing Operations | February 29, 2000 | May 18, 2000
10-5.540 | Control of Emissions From Batch Process Operations | February 29, 2000 | May 18, 2000
10-5.550 | Control of Volatile Organic Compound Emissions From Reactor Processes and Distillation Operations Processes in the Synthetic Organic Chemical Manufacturing Industry | February 29, 2000 | May 18, 2000
* * * * * * *

[FR Doc. 00-12384 Filed 5-17-00; 8:45am]

BILLING CODE 6560-50-P